DEPARTMENT OF LABOR

Employment and Training Administration

[TA-W-51,516]

Aerotek Automotive, Kentwood, MI; Notice of Termination of Investigation

Pursuant to section 221 of the Trade Act of 1974, the Department initiated an investigation on April 16, 2003, in response to a petition filed by a State agency representative on behalf of workers at Aerotek Automotive, Kentwood, Michigan.

The Department issued an amended certification (TA-W-42,008), to include leased workers of Aerotek Automotive producing candy and mints at Kraft Foods, Lifesavers Company, Holland, Michigan.

Consequently, further investigation in this case would serve no purpose, and the investigation has been terminated.

Signed in Washington, DC, this 25th day of April, 2003.
Linda G. Poole,
Certifying Officer, Division of Trade Adjustment Assistance.

[FR Doc. 03-11276 Filed 5-6-03; 8:45 am]

BILLING CODE 4510-30-P